DEPARTMENT OF ENERGY

Federal Energy Regulatory Commission

[Docket No. EG01-72-000, et al.]

Geysers Statutory Trust, et al.; Electric Rate and Corporate Regulation Filings

December 28, 2000.

Take notice that the following filings have been made with the Commission:

1. Geysers Statutory Trust

[Docket No. EG01-72-000]

Take notice that on December 19, 2000, Geysers Statutory Trust (Geysers Trust), tendered for filing with the Federal Energy Regulatory Commission (Commission) an application for determination of exempt wholesale generator (EWG) status pursuant to Part 365 of the Commission's Regulations.

Geysers Trust is a Connecticut statutory trust. Geysers Trust received an initial and second determination of EWG status in Docket EG99-120-000 by letter order dated May 7, 1999, Geysers Statutory Trust, 87 FERC 62,159 (1999), and in Docket EG00-16-000 by letter order dated December 28, 1999, Geysers Statutory Trust, 89 FERC 62,250 (1999), with respect to holding legal title to and leasing sixteen (16) geothermal generating facilities located in Lake County and Sonoma County, California. The instant application reflects that Geysers Trust will be the owner/lessor of three (3) additional geothermal generating facilities, the Bear Canyon kW #1 generating facility, the Bear Canyon kW #2 generating facility, and the West Ford Flat generating facility, having a collective net generating capacity of approximately forty-seven (47) megawatts, located in Lake County, California.

Geysers Trust further states that copies of the application were served upon the Securities and Exchange Commission and the California Public Utilities Commission.

Comment date: January 10, 2001, in accordance with Standard Paragraph E at the end of this notice. The Commission will limit its consideration of comments to those that concern the adequacy or accuracy of the application.

2. Geysers Power Company, LLC

[Docket No. EG01-73-000]

Take notice that on December 19, 2000, Geysers Power Company, LLC (Geysers Power), tendered for filing with the Federal Energy Regulatory Commission (Commission), an application for determination of exempt wholesale generator (EWG), status pursuant to Part 365 of the Commission's Regulations. Geysers Power is a Delaware limited liability company and an indirect wholly owned subsidiary of Calpine Corporation (Calpine). Geysers Power received determinations of EWG status in Docket No. EG99-109-000, by letter order dated April 28, 1999, Geysers Power Company, LLC, 87 FERC 62,115 (1999), and in Docket No. EG00-18-000 by letter order dated December 28, 2000, Geysers Power Company, LLC 89 FERC 62,251 (1999), with respect to its current lease and operation of sixteen (16) geothermal generating facilities located in Lake County and Sonoma County, California.

The instant application reflects that Geysers Power will operate, generate, and sell power exclusively for resale from three (3) additional geothermal power generation facilities, the Bear Canyon kW #1 generating facility, the Bear Canyon kW #2 generating facility, and the West Ford Flat generating facility, having a combined net generating capacity of approximately forty-seven (47) MW, located in Lake County, California.

Geysers Power further states that copies of the application were served upon the Securities and Exchange Commission and the California Public Utilities Commission.

Comment date: January 11, 2001, in accordance with Standard Paragraph E at the end of this notice. The Commission will limit its consideration of comments to those that concern the adequacy or accuracy of the application.

3. Attala Generating Company, LLC

[Docket No. EG01-74-000]

Take notice that on December 20, 2000, Attala Generating Company, LLC (Attala), a Delaware corporation with its principal place of business at 7500 Old Georgetown Road, Bethesda, Maryland 20814, tendered for filing with the Federal Energy Regulatory Commission an application for determination of exempt wholesale generator status pursuant to Part 365 of the Commission's Regulations.

Attala proposes to own or lease and operate a natural gas-fired, combined cycle power plant of approximately 500 MW capacity in Attala County, Mississippi. The proposed power plant is expected to commence commercial operation in 2001. All output from the plant will be sold by Attala exclusively at wholesale.

Comment date: January 11, 2001, in accordance with Standard Paragraph E at the end of this notice. The Commission will limit its consideration of comments to those that concern the adequacy or accuracy of the application.

4. Badger Windpower, LLC

[Docket No. EG01-75-000]

Take notice that on December 20, 2000, Badger Windpower, LLC (the Applicant), with its principal office at 700 Universe Boulevard, Juno Beach, Florida 33408, tendered for filing with the Commission an application for determination of exempt wholesale generator status pursuant to Part 365 of the Commission's Regulations.

Applicant states that it is a Delaware limited liability company engaged directly and exclusively in the business of developing and operating an approximately 30 MW wind-powered generating facility located in the Township of Eden, Wisconsin. Electric energy produced by the facility will be sold at wholesale or at retail exclusively to foreign consumers.

Comment date: January 11, 2001, in accordance with Standard Paragraph E at the end of this notice. The Commission will limit its consideration of comments to those that concern the adequacy or accuracy.

5. Elwood Energy III, LLC

[Docket No. EG01-78-000]

Take notice that on December 20, 2000, Elwood Energy III, LLC (Elwood), tendered for filing with the Federal Energy Regulatory Commission an application for determination of exempt wholesale generator status pursuant to Part 365 of the Commission's Regulations.

Elwood is owned by Dominion Elwood III, Inc., a Delaware corporation, and Peoples Elwood III, LLC, a Delaware limited liability company. Dominion Elwood III, Inc., is a wholly-owned subsidiary of Dominion Generation, Inc., which in turn is a wholly-owned subsidiary of Dominion Resources, Inc. Peoples Elwood III, LLC is a wholly-owned subsidiary of PERC Power, Inc., which in turn is a wholly-owned subsidiary of Peoples Energy Resources, Corp.

Elwood will own and operate a generating facility with a nominal capacity of 300 MW located near Elwood Illinois, consisting of three 150 MW GE turbine generator sets, an approximately 0.3 mile long 345 kV transmission line, three 18/345 kV step up transformers, three 18kV/4160v auxiliary transformers, and associated circuit breakers. The facility will be interconnected with the transmission system of Commonwealth Edison Company.

Comment date: January 11, 2001, in accordance with Standard Paragraph E at the end of this notice. The Commission will limit its consideration of comments to those that concern the adequacy or accuracy of the application.

6. FPL Energy Vansycle, LLC

[Docket No. EG01-76-000]

Take notice that on December 20, 2000, FPL Energy Vansycle, LLC (the Applicant), with its principle office at 700 Universe Boulevard, Juno Beach, Florida 33408, tendered for filing with the Commission an application for determination of exempt wholesale generator status pursuant to Part 365 of the Commission's Regulations.

Applicant states that it is a Delaware limited liability company engaged directly and exclusively in the business of developing and operating an approximately 300 MW wind-powered generating facility located in Walla Walla County, Washington and Umatilla County, Oregon. Electric energy produced by the facility will be sold at wholesale or at retail exclusively to foreign consumers.

Comment date: January 11, 2001, in accordance with Standard Paragraph E at the end of this notice. The Commission will limit its consideration of comments to those that concern the adequacy or accuracy of the application.

7. Elwood Energy II, LLC

[Docket No. EG01-77-000]

Take notice that on December 20, 2000, Elwood Energy II, LLC (Elwood), tendered for filing with the Federal Energy Regulatory Commission an application for determination of exempt wholesale generator status pursuant to Part 365 of the Commission's Regulations.

Elwood is owned by Dominion Elwood II, Inc., a Delaware corporation, Peoples Elwood II, LLC, a Delaware limited liability company and SkyGen Energy LLC, also a Delaware limited liability company. Dominion Elwood II, Inc., is a wholly-owned subsidiary of Dominion Generation, Inc., which in turn is a wholly-owned subsidiary of Dominion Resources, Inc. Peoples Elwood II, LLC is a wholly-owned subsidiary of PERC Power, Inc., which in turn is a wholly-owned subsidiary of Peoples Energy Resources, Corp. SkyGen Energy LLC is owned by Calpine Corporation, a Delaware corporation located in San Jose, California.

Elwood will own and operate a generating facility with a nominal capacity of 300 MW located near Elwood Illinois, consisting of two 150 MW GE turbine generator sets, an approximately 0.3 mile long 345 kV transmission line, two 18/345 kV step up transformers, two 18kV/4160v auxiliary transformers, and associated circuit breakers. The facility will be interconnected with the transmission system of Commonwealth Edison Company.

Comment date: January 11, 2001, in accordance with Standard Paragraph E at the end of this notice. The Commission will limit its consideration of comments to those that concern the adequacy or accuracy of the application.

8. Steam Heat LLC

[Docket No. EG01-71-000]

Take notice that on December 19, 2000, Steam Heat LLC (Steam Heat), tendered for filing with the Federal Energy Regulatory Commission (Commission) an application for determination of exempt wholesale generator (EWG) status pursuant to Part 365 of the Commission's Regulations.

Steam Heat is a Delaware limited liability company. Steam Heat received an initial and second determination of EWG status in Docket EG99-121-000 by letter order dated May 7, 1999, Steam Heat LLC, 87 FERC 62,156 (1999), and in Docket EG00-17-000 by letter order dated December 14, 1999, Steam Heat LLC, 89 FERC 62,203 (1999), with respect to its beneficial ownership of sixteen (16) geothermal power generation facilities located in Lake County and Sonoma County, California. The instant application reflects that Steam Heat will be acquiring direct or indirect beneficial ownership interests in (a) three (3) additional geothermal generating facilities, the Bear Canyon kW #1 generating facility, the Bear Canyon kW #2 generating facility, and the West Ford Flat generating facility, having a collective net generating capacity of approximately forty-seven (47) megawatts, located in Lake County, California; (b) an undivided interest in the “Morgantown Units,” consisting of Baseload Units 1 and 2, a 1164 MW (net) coal/oil-fired electric generating facility located near Newburg, Maryland, interconnecting transmission facilities necessary to effect wholesale sales of energy from the facility and associated books and records; and (c) an undivided interest in the “Dickerson Units,” consisting of Baseload Units 1, 2 and 3, a 546 (net) coal/oil-fired electric generating facility located in Upper Montgomery, Maryland, interconnecting transmission facilities necessary to effect wholesale sales of energy from the facility and associated books and records.

Steam Heat further states that copies of the application were served upon the Securities and Exchange Commission, the California Public Utilities Commission, the Maryland Public Service Commission and the District of Columbia Public Service Commission.

Comment date: January 10, 2001, in accordance with Standard Paragraph E at the end of this notice. The Commission will limit its consideration of comments to those that concern the adequacy or accuracy of the application.

9. Ocean State Power and Ocean State Power II

[Docket Nos. ER00-1534-002, ER00-1535-002]

Take notice that on December 20, 2000, Ocean State Power and Ocean State Power II (Ocean State), tendered for filing its refund compliance report in the above-referenced dockets.

Comment date: January 11, 2001, in accordance with Standard Paragraph E at the end of this notice.

10. Allegheny Energy Service Corporation on behalf of Allegheny Energy Supply Company, LLC

[Docket No. ER01-612-000]

Take notice that on December 20, 2000, Allegheny Energy Service Corporation on behalf of Allegheny Energy Supply Company, LLC tendered for filing a request to withdraw its Market Rate Tariff Service Agreement No. 103 filed with the Commission in the above-referenced docket.

Copies of the filing have been provided to the Customer, to the Public Utilities Commission of Ohio, the Pennsylvania Public Utility Commission, the Maryland Public Service Commission, the Virginia State Corporation Commission, the West Virginia Public Service Commission, and all parties of record.

Comment date: January 11, 2001, in accordance with Standard Paragraph E at the end of this notice.

11. Illinois Power Company

[Docket No. ER01-712-000]

Take notice that on December 20, 2000, Illinois Power Company (Illinois Power), 500 South 27th Street, Decatur, Illinois 65251-2200, tendered for filing an Interconnection Agreement entered into with Dynegy Midwest Generation, Inc. (DMG), and subject to Illinois Power's Open Access Transmission Tariff.

Illinois Power requests an effective date of December 1, 2000, for the Interconnection Agreement and seeks a waiver of the Commission's notice requirement. Illinois Power has served a copy of the filing on DMG.

Comment date: January 11, 2001, in accordance with Standard Paragraph E at the end of this notice.

12. American Transmission Company, LLC

[Docket No. ER01-725-000]

Take notice that on December 20, 2000, American Transmission Company LLC (ATCLLC), tendered for filing a Network Operating Agreement and Network Integration Transmission Service Agreement between ATCLLC and Wisconsin Electric Power Company (WEPCO).

ATCLLC requests an effective date of January 1, 2001.

Comment date: January 11, 2001, in accordance with Standard Paragraph E at the end of this notice.

13. American Transmission Company, LLC

[Docket No. ER01-726-000]

Take notice that on December 20, 2000, American Transmission Company LLC (ATCLLC), tendered for filing a Network Operating Agreement and Network Integration Transmission Service Agreement between ATCLLC and the City of Stoughton.

ATCLLC requests an effective date of January 1, 2001.

Comment date: January 11, 2001, in accordance with Standard Paragraph E at the end of this notice.

14. New York State Electric & Gas Corporation

[Docket No. ER01-734-000]

Take notice that on December 20, 2000, New York State Electric & Gas Corporation (NYSEG), tendered for filing pursuant to section 35 of the Federal Energy Regulatory Commission's Regulations, 18 CFR 35, a service agreement (the Service Agreement) under which NYSEG may provide capacity and/or energy to Conectiv Energy Supply, Inc. (Conectiv) in accordance with NYSEG's FERC Electric Tariff, Original Volume No. 3.

NYSEG has requested waiver of the notice requirements so that the Service Agreement becomes effective as of December 21, 2000.

NYSEG has served copies of the filing upon the New York State Public Service Commission and Conectiv.

Comment date: January 11, 2001, in accordance with Standard Paragraph E at the end of this notice.

15. Puget Sound Energy, Inc.

[Docket No. ER01-735-000]

Take notice that on December 20, 2000, Puget Sound Energy, Inc. (PSE), tendered for filing a Service Agreement under PSE's Electric Tariff, First Revised Volume No. 8 (Market Rate Tariff) with the California Independent System Operator (the Cal ISO).

A copy of the filling was served upon the Cal ISO.

Comment date: January 11, 2001, in accordance with Standard Paragraph E at the end of this notice.

16. Automated Power Exchange, Inc.

[Docket No. ER01-736-000]

Take notice that on December 20, 2000, Automated Power Exchange, Inc., tendered for filing a rate schedule under which APX will offer power exchange services in the APX New York Market.

Comment date: January 11, 2001, in accordance with Standard Paragraph E at the end of this notice.

17. Wisconsin Power & Light Company

[Docket No. ER01-737-000]

Take notice that on December 20, 2000, Wisconsin Power & Light Company (WPL), tendered for filing a Service Agreement with the City of Kiel.

WPL indicates that copies of the filing have been provided to the Kiel and to the Public Service Commission of Wisconsin.

Comment date: January 11, 2001, in accordance with Standard Paragraph E at the end of this notice.

18. Conoco, Inc.

[Docket No. ER01-738-000]

Take notice that on December 19, 2000, Conoco, Inc., tendered for filing pursuant to §§ 35.16 and 35.151 of the Federal Energy Regulatory Commission's (Commission) Regulations, 18 CFR 35.16 and 35.151 Conoco Power Marketing, Inc., a Delaware Corporation and an wholly owned subsidiary of Conoco Petroleum Operations, Inc., which is a wholly owned subsidiary of Conoco Inc., 600 North Dairy Ashford Road, Houston, Texas, hereby gives notice of transfer of Certificate of Public Convenience and Necessity to parent corporation Conoco, Inc. This transfer is the result of an internal reorganization of Conoco Inc.'s power trading activities.

Conoco Inc., on December 18, 2000, hereby adopts, ratifies, and makes its own, in every respect all applicable rate schedules, and supplements thereto, listed below, hereto filed with the Commission by Conoco Power Marketing, Inc., effective as of the date of a Commission order granting approval of FERC Electric Schedule No. 1.

Comment date: January 10, 2001, in accordance with Standard Paragraph E at the end of this notice.

19. American Transmission Company, LLC

[Docket No. ER01-727-000]

Take notice that on December 20, 2000, American Transmission Company LLC (ATCLLC), tendered for filing four short-term firm and non-firm service agreements for point-to-point transmission service with Northern Indiana Public Service Company LLC and Split Rock Energy LLC.

ATCLLC requests an effective date of January 1, 2001.

Comment date: January 11, 2001, in accordance with Standard Paragraph E at the end of this notice.

20. Allegheny Energy Service Corporation on behalf of Allegheny Energy Supply Company, LLC

[Docket No. ER01-730-000]

Take notice that on December 20, 2000, Allegheny Energy Service Corporation on behalf of Allegheny Energy Supply Company, LLC (Allegheny Energy Supply), tendered for filing Service Agreement No. 104 to add one (1) new Customer to the Market Rate Tariff under which Allegheny Energy Supply offers generation services. Allegheny Energy Supply proposes to make service available as of December 19, 2000 to CNG Power Services Corporation.

Copies of the filing have been provided to the Public Utilities Commission of Ohio, the Pennsylvania Public Utility Commission, the Maryland Public Service Commission, the Virginia State Corporation Commission, the West Virginia Public Service Commission, and all parties of record.

Comment date: January 11, 2001, in accordance with Standard Paragraph E at the end of this notice.

21. American Electric Power Service Corporation

[Docket No. ER01-720-000]

Take notice that on December 20, 2000, the American Electric Power Service Corporation (AEPSC) as agent for Indiana Michigan Power Company, tendered for filing an executed Interconnection and Operation Agreement between Indiana Michigan Power Company and Duke Energy DeSoto, LLC. The agreement is pursuant to the AEP Companies' Open Access Transmission Service Tariff (OATT) that has been designated as the Operating Companies of the American Electric Power System FERC Electric Tariff Revised Volume No. 6, effective June 15, 2000.

AEP requests an effective date of March 1, 2001.

A copy of the filing was served upon the Indiana Utilities Regulatory Commission and the Michigan Public Service Commission.

Comment date: January 11, 2001, in accordance with Standard Paragraph E at the end of this notice.

22. Allegheny Energy Service Corporation on behalf of Allegheny Energy Supply Company, LLC

[Docket No. ER01-728-000]

Take notice that on December 20, 2000, Allegheny Energy Service Corporation on behalf of Allegheny Energy Supply Company, LLC (Allegheny Energy Supply), tendered for filing Service Agreement No. 106 to add one (1) new Customer to the Market Rate Tariff under which Allegheny Energy Supply offers generation services.

Allegheny Energy Supply requests a waiver of notice requirements for an effective date of November 28, 2000 for Merrill Lynch Capital Services, Inc.

Copies of the filing have been provided to the Public Utilities Commission of Ohio, the Pennsylvania Public Utility Commission, the Maryland Public Service Commission, the Virginia State Corporation Commission, the West Virginia Public Service Commission, and all parties of record.

Comment date; January 11, 2001, in accordance with Standard Paragraph E at the end of this notice.

23. Allegheny Energy Service Corporation on behalf of Allegheny Energy Supply Company, LLC

[Docket No. ER01-729-000]

Take notice that on December 20, 2000, Allegheny Energy Service Corporation on behalf of Allegheny Energy Supply Company, LLC (Allegheny Energy Supply), tendered for filing Service Agreement No. 105 to add one (1) new Customer to the Market Rate Tariff under which Allegheny Energy Supply offers generation services.

Allegheny Energy Supply requests a waiver of notice requirements for an effective date of November 27, 2000 for Alliant Energy Corporate Services, Inc.

Copies of the filing have been provided to the Public Utilities Commission of Ohio, the Pennsylvania Public Utility Commission, the Maryland Public Service Commission, the Virginia State Corporation Commission, the West Virginia Public Service Commission, and all parties of record.

Comment date: January 11, 2001, in accordance with Standard Paragraph E at the end of this notice.

24. St Joseph Light & Power Company

[Docket No. ER01-732-000]

Take notice that on December 20, 2000, St. Joseph Light & Power Company (SJLP), tendered for filing five executed agreements for transmission service under its Open Access Transmission Tariff. The five agreements consist of two agreements (one agreement for firm point-to-point service, and a second agreement for non-firm point-to-point service) for each of two transmission customers—Cargill-Alliant, LLC and Municipal Energy Agency of Nebraska—and one agreement (for non-firm point-to-point service) for Engage Energy US, L.P.

SJLP states that copies of this filing have been served on each of these three entities.

Comment date: January 11, 2001, in accordance with Standard Paragraph E at this end of the notice.

25. Virginia Electric and Power Company

[Docket No. ER01-733-000]

Take notice that on December 20, 2000, Virginia Electric and Power Company (Dominion Virginia Power or the Company), tendered for filing a Service Agreement for Retail Network Integration Transmission Service, Network Operating Agreement, and Retail Network Transmission Service (Service Agreement) by Virginia Electric and Power Company to PEPCO Energy Services, Inc., designated as Service Agreement No. 311 under the Company's Retail Access Pilot Program, pursuant to Attachment L of the Company's Open Access Transmission Tariff, FERC Electric Tariff, Second Revised Volume No. 5, to Eligible Purchasers effective June 7, 2000.

Dominion Virginia Power requests an effective date of December 20, 2000, the date of filing of the Service Agreements.

Copies of the filing were served upon PEPCO Energy Services, Inc., the Virginia State Corporation Commission, and the North Carolina Utilities Commission.

Comment date: January 11, 2001, in accordance with Standard Paragraph E at the end of this notice.

26. American Electric Power Service Corporation

[Docket No. ER01-741-000]

Take notice that on December 21, 2000, the American Electric Power Service Corporation (AEPSC), tendered for filing executed Interconnection and Operation Agreement between Kentucky Power Company and Riverside Generating Company, LLC, as construction agent for the Lawrence County Riverside Trust 2000. The agreement is pursuant to the AEP Companies' Open Access Transmission Service Tariff (OATT) that has been designated as the Operating Companies of the American Electric Power System FERC Electric Tariff Revised Volume No. 6, effective June 15, 2000.

AEP requests an effective date of March 2, 2000.

A copy of the filing was served upon the Kentucky Public Service Commission.

Comment date: January 12, 2001, in accordance with Standard Paragraph E at the end of this notice.

27. UtiliCorp United Inc.

[Docket No. ER01-742-000]

Take notice that on December 21, 2000, UtiliCorp United Inc. (UtiliCorp), tendered for filing a market-based sales tariff for St. Joseph Light & Power, an operating division.

UtiliCorp requests that the Commission accept the tariff for filing to become effective on January 1, 2001.

Comment date: January 12, 2001, in accordance with Standard Paragraph E at the end of this notice.

28. Orion Power MidWest, L.P.

[Docket No. ER01-759-000]

Take notice that on December 22, 2000, Orion Power MidWest, L.P. (Orion Power MidWest), tendered for filing with the Federal Energy Regulatory Commission an Amended and Restated POLR II Agreement with Duquesne Light Company (Duquesne), designated as FERC Rate Schedule No. 8 for the sale of 100% of the wholesale power that Duquesne needs to meet its obligation as the provider of last resort during the post-transition period, i.e., the period between the completion of Duquesne's competitive transition charge recovery through December 21, 2004. In exchange, Duquesne will make payments to Orion Power MidWest based on the generation portion Duquesne's unbundled retail rates.

Comment date: January 12, 2001, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A.Watson, Jr.,
Acting Secretary.

[FR Doc. 01-297 Filed 1-4-01; 8:45 am]

BILLING CODE 6717-01-M